DEPARTMENT OF ENERGY

Federal Energy Regulatory Commission

[EG18-95-000, EG18-96-000, EG18-97-000, EG18-98-000, EG18-99-000, EG18-100-000, EG18-101-000, EG18-102-000, FC18-6-000, FC18-7-000]

Langdon Renewables, LLC, Rush Springs Energy Storage, LLC, Origis Energy, Palmer's Creek Wind Farm, LLC, Meadowlark Wind I LLC, Foard City Wind, LLC, Torrecillas Wind Energy, LLC, Holloman Lessee LLC, Solfuture Gestion, S.L.U., Glicinia Instalaciones Fotovoltaicas, S.L.U.; Notice of Effectiveness of Exempt Wholesale Generator and Foreign Utility Company Status

Take notice that during the month of August 2018, the status of the above-captioned entities as Exempt Wholesale Generators or Foreign Utility Companies became effective by operation of the Commission's regulations. 18 CFR 366.7(a)(2018).

Dated: September 6, 2018.
Nathaniel J. Davis, Sr.,
Deputy Secretary.

[FR Doc. 2018-19808 Filed 9-11-18; 8:45 am]

BILLING CODE 6717-01-P